DEPARTMENT OF AGRICULTURE

Grain Inspection, Packers and Stockyards Administration

[04-CA-A]

Cancellation of California's Delegation and Designation and the Opportunity for Designation in the California Area

AGENCY: Grain Inspection, Packers and Stockyards Administration, USDA.

ACTION: Notice.

SUMMARY: The United States Grain Standards Act, as amended (Act), provides that official agency designations will end not later than triennially and may be renewed. The California Department of Food and Agriculture (California) is designated to provide official inspection and weighing services until December 31, 2005, according to the Act. California is also delegated to provide export services. California advised Grain Inspection, Packers and Stockyards Administration (GIPSA) that they will cease providing official services on May 1, 2005. Accordingly, GIPSA is announcing that California's delegation and designation will be canceled effective April 30, 2005. GIPSA is asking for applicants for domestic service in the California area.

DATES: Applications and comments must be postmarked or electronically dated on or before February 17, 2005.

ADDRESSES: We invite you to submit applications and comments on this notice. You may submit applications and comments by any of the following methods:

• Hand Delivery or Courier: Deliver to Janet M. Hart, Chief, Review Branch, Compliance Division, GIPSA, USDA, Room 1647-S, 1400 Independence Avenue, SW., Washington, DC 20250.

• Fax: Send by facsimile transmission to (202) 690-2755, attention: Janet M. Hart.

• E-mail: Send via electronic mail to Janet.M.Hart@usda.gov.

• Mail: Send hardcopy to Janet M. Hart, Chief, Review Branch, Compliance Division, GIPSA, USDA, STOP 3604, 1400 Independence Avenue, SW., Washington, DC 20250-3604.

Read Applications and Comments: All applications and comments will be available for public inspection at the office above during regular business hours (7 CFR 1.27(b)).

FOR FURTHER INFORMATION CONTACT: Janet M. Hart at 202-720-8525, e-mail Janet.M.Hart@usda.gov.

SUPPLEMENTARY INFORMATION: This action has been reviewed and determined not to be a rule or regulation as defined in Executive Order 12866 and Departmental Regulation 1512-1; therefore, the Executive Order and Departmental Regulation do not apply to this action.

Section 7(f)(1) of the Act authorizes GIPSA' Administrator to designate a qualified applicant to provide official services in a specified area after determining that the applicant is better able than any other applicant to provide such official services. GIPSA designated California, headquarters in Sacramento, California, to provide official inspection services under the Act on January 1, 2003.

Section 7(g)(1) of the Act provides that designations of official agencies will end not later than triennially and may be renewed according to the criteria and procedures prescribed in section 7(f) of the Act. The designation of California ends on December 31, 2005, according to the Act. However, California asked GIPSA for a voluntary cancellation of their designation effective April 30, 2005. Accordingly, California's designation will cease effective April 30, 2005, and GIPSA is asking for applicants to provide official service.

Pursuant to section 7(f)(2) of the Act, the following geographic area, the entire State of California, except those export port locations within the State, is assigned to this official agency. For export service after April 30, 2005, contact Michael Johnson, Federal State Manager, telephone number 916-376-1930. Interested persons are hereby given the opportunity to apply for designation to provide official services in the geographic areas specified above under provisions of section 7(f) of the Act and section 800.196(d) of the regulations issued thereunder. Persons wishing to apply for designation should contact the Compliance Division at the address listed above for forms and information, or obtain applications at the GIPSA Web site, http://www.usda.gov/gipsa/oversight/parovreg.htm.

Authority: Pub. L. 94-582, 90 Stat. 2867, as amended (7 U.S.C. 71 et seq.).

David R. Shipman,
Deputy Administrator, Grain Inspection, Packers and Stockyards Administration.

[FR Doc. 05-885 Filed 1-14-05; 8:45 am]

BILLING CODE 3410-EN-P